DEPARTMENT OF THE TREASURY

Submission for OMB Review; Comment Request

August 22, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 29, 2003 to be assured of consideration.

Internal Revenue Service

OMB Number: 1545-0687.

Form Number: IRS Form 990-T.

Type of Review: Extension.

Title: Exempt Organization Business Income Tax Return.

Description: Form 990-T is needed to compute the section 511 tax on unrelated business income of a charitable organization. IRS uses the information to enforce the tax.

Respondents: Not-for-profit institutions.

Estimated Number of Respondents/Recordkeepers:

Estimated Burden Hours Respondent/Recordkeeper:

Recordkeeping

67 hr., 12 min.

Learning about the law or the form

25 hr., 41 min.

Preparing the form

41 hr., 52 min.

Copying, assembling, and sending the form to the IRS

4 hr., 1 min.

Frequency of Response: Annually.

Estimated Total Reporting/Recordkeeping Burden: 5,149,155 hours.

OMB Number: 1545-1547.

Form Number: IRS Form W-7A.

Type of Review: Extension.

Title: Application for Taxpayer Identification Number for Pending U.S. Adoptions.

Description: Form W-7A is used to apply for an Internal Revenue Service Taxpayer Identification Number (an ATIN) for use in pending adoptions. An ATIN is A temporary nine-digit number issued by the IRS to individuals who are in the process of adopting a U.S. resident child but who cannot get a social security number for that child until the adoption is final.

Respondents: Individuals or households.

Estimated Number of Respondents/Recordkeepers: 50,000.

Estimated Burden Hours Respondent/Recordkeeper:

Learning about the law or the form

8 min.

Preparing the form

16 min.

Copying, assembling, and sending the form to the IRS

16 min.

Frequency of Response: On occasion.

Estimated Total Reporting/Recordkeeping Burden: 35,000 hours.

Clearance Officer: Glenn Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Lois K. Holland,
Treasury PRA Clearance Officer.

[FR Doc. 03-22134 Filed 8-28-03; 8:45 am]

BILLING CODE 4830-01-P